DEPARTMENT OF THE INTERIOR

National Park Service

Notice of Intent To Prepare a Special Resource Study of the River Raisin Battlefield in Monroe, MI

AGENCY: National Park Service, Department of the Interior.

ACTION: Notice of intent to prepare a Special Resource Study of the River Raisin Battlefield in Monroe, Michigan. This study will be accompanied by either an Environmental Impact Statement or an Environmental Assessment.

SUMMARY: Pursuant to Section 102(2)(C) of the National Environmental Policy Act of 1969 (42 U.S.C. 4332(2)(C)), the National Park Service (NPS) is announcing its intent to prepare an Environmental Impact Statement (EIS) for a Special Resource Study (SRS) of the River Raisin Battlefield. Public Law 109-429, passed on December 20, 2006, directed the Secretary of the Interior to conduct an SRS of sites in Monroe County, Michigan, relating to the Battles of the River Raisin on January 18 and 22, 1813, and their aftermath.

To facilitate sound planning and environmental assessment, the NPS intends to gather information necessary for the preparation of an BIS and obtain suggestions and information from other Agencies and the public on the scope of issues to be addressed in the 515. Comments and participation in this scoping process are invited. Participation in the planning process will be encouraged and facilitated by various means, including newsletters and open house meetings. The NPS will conduct public scoping meetings to explain the planning process and to solicit opinions about issues to address in the SRS/EIS. Notification of all such meetings will be announced in the local press and in the NPS newsletters. Based on the information received during scoping, and the development of preliminary alternatives and impact analysis, the NPS may decide that an environmental assessment would better suit the process. The NPS would announce that decision publicly.

ADDRESSES: Additionally, if you wish to comment on any issues associated with the SRS, you may submit your comments by any one of several methods. You may mail or hand-deliver comments to Ruth Heikkinen, Project Manager for the River Raisin Special Resource Study, National Park Service Midwest Regional Office, 601 Riverfront Drive, Omaha, Nebraska 68102-4226. You may provide comments electronically by entering them into the NPS's Planning, Environment and Public Comment Web site (http://parkplanning.nps.gov). Information will be available for public review and comment from the Midwest Regional Office of the NPS at the above address.

Requests to be added to the project mailing list should also be sent to Ruth Heikkinen, Project Manager for the River Raisin Special Resource Study, at the above address or e-mailed to Ruth_Heikkinen@nps.gov.

Before including your address, telephone number, e-mail address, or other: personal identifying information in your comments, you should be aware that your entire comment (including your personal identifying information) may be made publicly available at any time. While you can ask us in your comments to withhold your personal identifying information from public review, we cannot guarantee that we will be able to do so. We will make all submissions from organizations or businesses, from individuals identifying themselves as representatives or officials, or organizations or businesses available for public inspection in their entirety.

FOR FURTHER INFORMATION CONTACT: Ruth Heikkinen, Project Manager for the River Raisin Special Resource Study, National Park Service Midwest Regional Offices, 601 Riverfront Drive, Omaha, Nebraska 68102-4226, at telephone 402-661-1846.

SUPPLEMENTARY INFORMATION: The NPS is conducting this study in response to Public Law 109-249 which required a determination of the national significance of sites related to the battles of the River Raisin as well as the suitability and feasibility of including them in the National Park System.

The significance of the River Raisin Battlefield derives from events early in1813 when, angry at the American surrender of Detroit to the British in August of 1812, militia from Kentucky marched to Frenchtown (today, Monroe) on the River Raisin south of Detroit. The town was occupied by predominantly French-Canadians who, threatened by the British, had asked for military protection. On January 18, 1813, 667 Kentuckians successfully defended Frenchtown against a much smaller force of Canadian militia and Indians. Four days later, a British and Indian force launched a counterattack on the Kentuckians, together with a force of 250 American regulars who had joined them, and inflicted tremendous harm. At the end of the battle, American casualties totaled 220 killed, 80 wounded, and more than 500 taken prisoner. However, it was the attack on the wounded by the Indians the following day that most shocked the American conscience. While the wounded waited in Frenchtown for the British to bring sleds to carry them away, they were attacked by Indians who, came into the town to seek revenge. The Indians brutally murdered most of the wounded and burned down the town. The phrase “Remember the River Raisin” became a rallying cry for the later Battle of the Thames, the last battle of the War of 1812, which cemented the American victory.

A portion of the River Raisin Battlefield was placed on the National Register in 1982. In the last few years, the city of Monroe has worked to secure grants to remove former industrial buildings on the site with the goal of reclaiming the historic integrity of the Battlefield.

Dated: July 8, 2008.
Ernest Quintana,
Regional Director, Midwest Region.

[FR Doc. E8-19047 Filed 8-18-08; 8:45 am]

BILLING CODE 4312-52-M